DEPARTMENT OF DEFENSE

Department of the Navy

Notice of Availability of Government-Owned Invention; Available for Licensing

AGENCY: Department of the Navy, DOD.

ACTION: Notice.

SUMMARY: The invention listed below is assigned to the United States Government as represented by the Secretary of the Navy and is available for licensing by the Department of the Navy. Patent application 10/774,649: NON-INVASIVE CORROSION SENSOR. The invention provides a method that will permit quantitative measurement of the rate of corrosion of material surfaces not accessible during normal operations. The process is predictive and does not require visual observation of the surfaces.

ADDRESSES: Requests for copies of the invention cited should be directed to the Naval Surface Warfare Center, Crane Div, Code 054, Bldg 1, 300 Highway 361, Crane, IN 47522-5001.

FOR FURTHER INFORMATION CONTACT: Mr. Brian Bailey, Naval Surface Warfare Center, Crane Div, Code 054, Bldg 1, 300 Highway 361, Crane, IN 47522-5001, telephone (812) 854-2378. To download an application for license, see: http://www.crane.navy.mil/newscommunity/TechTrans CranePatents.asp?bhcp=1

(Authority: 35 U.S.C. 207, 37 CFR part 404.)

Dated: June 15, 2004.
S.K. Melancon,
Paralegal Specialist, Office of the Judge Advocate General, Alternate Federal Register Liaison Officer.

[FR Doc. 04-14171 Filed 6-22-04; 8:45 am]

BILLING CODE 3810-FF-P